GENERAL SERVICES ADMINISTRATION

[OMB Control No. 3090-0058]

Submission for OMB Review; Comment Request Entitled Deposit Bond Annual-Sale of Government Personal Property, Standard Form 151

AGENCY: Federal Supply Service, GSA.

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement concerning Deposit Bond Annual-Sale of Government Personal Property, Standard Form 151.

DATES: Comments may be submitted on or before September 17, 2001.

FOR FURTHER INFORMATION CONTACT: Judith R. Cotter, Federal Supply Services, GSA (703) 305-7052.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0058, concerning Deposit Bond Annual-Sale of Government Personal Property, Standard Form 151. This form is used by bidders participating in sales of Government personal property whenever the sales invitation permits an annual type of deposit bond in lieu of cash or other form of deposit.

B. Annual Reporting Burden

Respondents: 1000.

Annual Responses: 1000.

Burden Hours: 250.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0058, Deposit Bond Annual-Sale of Government Personal Property, in all correspondence.

Dated: July 3, 2001.
Gloria M. Sochon,
Acting Deputy Associate Administrator, Office of Acquisition Policy.

[FR Doc. 01-17753 Filed 7-16-01; 8:45 am]

BILLING CODE 6820-61-M